DEPARTMENT OF STATE

[Public Notice 9999]

Notice of Meeting of Advisory Committee on International Law

A meeting of the Department of State's Advisory Committee on International Law will take place on Monday, June 5, 2017, from 9:30 a.m. to 5:00 p.m. at the George Washington University Law School, Michael K. Young Faculty Conference Center, 716 20th St. NW., 5th Floor, Washington, DC. Acting Legal Adviser Richard C. Visek will chair the meeting, which will be open to the public up to the capacity of the meeting room. It is anticipated that the meeting will include discussions on the interagency process for addressing questions of international law, the development and use of sanctions, the Department's efforts regarding the intersection between social media and countering violent extremism, and the situation in Syria.

Members of the public who wish to attend should contact the Office of the Legal Adviser by June 1 at heathjb@state.gov or 202-776-8315 and provide their name, professional affiliation, address, and phone number. A valid photo ID is required for admission to the meeting. Attendees who require reasonable accommodation should make their requests by May 29. Requests received after that date will be considered but might not be possible to accommodate.

J. Benton Heath,
Attorney-Adviser, Office of the Legal Adviser, Executive Director, Advisory Committee on International Law, Department of State.

[FR Doc. 2017-10074 Filed 5-17-17; 8:45 am]

BILLING CODE 4710-08-P